DEPARTMENT OF HEALTH AND HUMAN SERVICES

Centers for Medicare and Medicaid Services

[Document Identifier: Open Door]

Agency Information Collection Activities: March 29, 2004 Special Open Door Listening Session—Proposed Collection—Comment Request for Federal Reimbursement of Emergency Health Services Furnished to Undocumented Aliens

AGENCY: Centers for Medicare and Medicaid Services, HHS.

In support of the requirement of section 3506(c)(2)(A) of the Paperwork Reduction Act of 1995, the Centers for Medicare and Medicaid Services (CMS), Department of Health and Human Services, will be holding an open door listening session to solicit input from the public on the issues surrounding the implementation of recently enacted legislation on Federal reimbursement of Emergency Health Services Furnished to Undocumented Aliens.

Interested persons are invited to provide input on the development of methods and procedures for implementing section 1011 of the Medicare Prescription Drug, Improvement, and Modernization Act of 2003, regarding Federal reimbursement of emergency health services furnished to undocumented aliens. The primary topics for consideration are: How to obtain reliable information on the amount or volume of emergency services provided to undocumented aliens; how to ensure that the methods or procedures selected to implement this provision do not impose requirements on providers that are inconsistent with their EMTALA obligations; and, how to reliably determine or approximate individual hospitals', physicians', or ambulance providers' un-reimbursed costs for providing emergency care for undocumented aliens without imposing costly and burdensome reporting and record-keeping requirements. The format of an Open Door Listening Session is such that there will not be an opportunity for CMS to directly respond to individual comments, testimony, or questions posed.

DATES: The open door listening session announced in this notice will be held on Monday, March 29, 2004, from 2 p.m. to 4 p.m., E.S.T. at the CMS Baltimore Central Site campus.

SUPPLEMENTARY INFORMATION:

I. Background

Section 1867 of the Social Security Act (EMTALA) requires a hospital that has an emergency department to provide appropriate medical screening to individuals who request examination or treatment to determine whether or not an emergency medical condition exists. If such a condition does exist, the hospital is required to stabilize the condition and/or provide an appropriate transfer, regardless of the individual's ability to pay for treatment.

Undocumented aliens are frequently unable to pay for the EMTALA-required care they receive from hospitals and associated physician and ambulance services

Section 1011 of the Medicare Modernization Act (Pub. L. 108-173) provides $250 million per year for FY 2005-2008 for payments to eligible providers for emergency health services for undocumented aliens. Two-thirds of the funds will be divided among all 50 states (and the District of Columbia) based on their relative percentages of undocumented aliens. One-third will be divided among the six states with the largest number of undocumented alien apprehensions. The data used to identify these states will come from the Department of Homeland Security.

The amounts of money set aside for each state will be paid directly to eligible providers. The Secretary must directly pay hospitals, physicians, and ambulance providers for the costs of providing emergency health care required under EMTALA and related hospital inpatient, outpatient, and ambulance services (including those operated by the Indian Health Service and Indian Tribes and Tribal organizations) to undocumented aliens.

Payments will be made quarterly and may be made based on advance estimates with retrospective adjustments. The Secretary must establish a process no later than September 1, 2004, for eligible providers to request payments. The process must include measures to ensure that the payments are not inappropriate, fraudulent, or excessive.

CMS will hold this special open door listening session to gather your input related to the implementation of this new provision and to allow interested parties to hear and be heard by other members of the healthcare industry.

The primary topics for consideration are: how to obtain reliable information on the amount or volume of emergency services provided to undocumented aliens; how to ensure that the methods or procedures used to implement this provision do not impose requirements on providers that are inconsistent with their EMTALA obligations; and, how to reliably approximate or determine individual hospitals', physicians' or ambulance providers' un-reimbursed costs on providing emergency care for undocumented aliens without imposing costly and burdensome reporting and record keeping requirements.

II. Participation

We ask that all interested persons who wish to present their information prepare to speak within a restricted time limit that will depend upon the number of requests we receive by close of business Wednesday, March 24th, 2004 (see RSVP information below). Telephone call-in participants will be given an opportunity to speak as well, and if necessary will be under similar time limitations.

CMS additionally requests that interested parties please prepare their comments or input in written form and submit this information to the same (RSVP) e-mail address as listed below. If not possible at the time of RSVP, we request that you bring a hard copy of your written material for collection at the meeting in Baltimore. There are two ways to participate, by phone or in-person.

To participate by phone:

Dial: 1-800-837-1935 & Reference Conference ID: 614131

Persons participating by phone are not required to RSVP.

Note: TTY Communications Relay Services are available for the Hearing Impaired. For TTY services dial 7-1-1 or 1-800-855-2880 and for Internet Relay services click here http://www.consumer.att.com/relay/which/index.html. A Relay Communications Assistant will help.

To participate in-person at the CMS Baltimore Site, an RSVP is required.

To register, please RSVP (by close of business Wednesday, March 24, 2004) via e-mail to Section 1011@cms.hhs.gov if you plan to attend. Please include the word “Registration” in the subject line of your message, send us your name along with the name of your organization and contact information, and indicate whether or not you plan to speak.

Please arrive no later than 1:30 p.m. Photo identification is required at security points.

ADDRESSES: CMS Single Site Building, Auditorium, 7500 Security Boulevard, Baltimore, MD 21244.

Map & Directions: http://cmsnet.cms.hhs.gov/hpages/ocsq/cmsdirections-north.htm.

ENCORE: 1-800-642-1687; Conf. ID #614131

“Encore” is a recording of this call that can be accessed by dialing 1-800-642-1687 and entering the Conf. ID beginning on March 30, 2004. The recording expires after 4 days. For Forum Schedule updates, Listserv registration and Frequently Asked Questions please visit our Web site at http://www.cms.hhs.gov/opendoor/.

FOR FURTHER INFORMATION CONTACT: George Morey, (410) 786-4487, e-mail address Section 1011@cms.hhs.gov(include the word “Question” in the subject line of your message) or by fax (410) 786-9963.

Dated: March 16, 2004.
John P. Burke, III,
Paperwork Reduction Act Team Leader, Office of Strategic Operations and Strategic Affairs, Division of Regulations Development and Issuances.

[FR Doc. 04-6271 Filed 3-18-04; 8:45 am]

BILLING CODE 4120-03-P